DEPARTMENT OF COMMERCE

Foreign-Trade Zones Board

[B-15-2013]

Foreign-Trade Zone 122—Corpus Christi, Tx; Application for Reorganization Under Alternative Site Framework

An application has been submitted to the Foreign-Trade Zones (FTZ) Board (the Board) by the Port of Corpus Christi Authority, grantee of FTZ 122, requesting authority to reorganize the zone under the alternative site framework (ASF) adopted by the Board (15 CFR 400.2(c)). The ASF is an option for grantees for the establishment or reorganization of zones and can permit significantly greater flexibility in the designation of new subzones or “usage-driven” FTZ sites for operators/users located within a grantee's “service area” in the context of the Board's standard 2,000-acre activation limit for a zone. The application was submitted pursuant to the Foreign-Trade Zones Act, as amended (19 U.S.C. 81a-81u), and the regulations of the Board (15 CFR part 400). It was formally docketed on February 20, 2013.

FTZ 122 was approved by the Board on September 5, 1985 (Board Order 310, 50 FR 38020, 9/19/1985) and expanded on December 6, 1991 (Board Order 545, 56 FR 65884, 12/19/1991), and on September 1, 1995 (Board Order 764, 60 FR 47149, 9/11/1995). The current zone includes the following sites in Corpus Christi: Site 1 (7,155 acres)—Port of Corpus Christi Inner Harbor Terminal Complex (excluding the areas on which Subzones 122H and 122R are located); Site 3 (14 acres)—Ray West Warehouses, Inc., located within 2 miles of the Port and downtown Corpus Christi; Site 4 (176 acres)—American Petrofina Marketing, Inc., located at the mouth of the ship channel; Site 7 (18.2 acres)—GateFront, LLC, located at 7102 Marvin L. Berry Road; and, Site 8 (3.71 acres)—C.C. Distributors, Inc., located at 210 McBride Lane. (Note: Sites 2, 5 and 6 were removed from the zone via minor boundary modification procedures in November 2010 (A(27f)-81-2010).)

The grantee's proposed service area under the ASF would be the Counties of Nueces, San Patricio, Aransas, Jim Wells, Kleberg and Bee, Texas, as described in the application. If approved, the grantee would be able to serve sites throughout the service area based on companies' needs for FTZ designation. The proposed service area is within and adjacent to the Corpus Christi Customs and Border Protection port of entry.

The applicant is requesting authority to reorganize its existing zone project to include existing Site 1 as a “magnet” site and existing Sites 3, 7 and 8 as “usage-driven” sites. The ASF allows for the possible exemption of one magnet site from the “sunset” time limits that generally apply to sites under the ASF, and the applicant proposes that Site 1 be so exempted. The applicant is also requesting to remove Site 4 from the zone. No additional subzones/usage-driven sites are being requested at this time. The application would have no impact on FTZ 122's previously authorized subzones.

In accordance with the Board's regulations, Camille Evans of the FTZ Staff is designated examiner to evaluate and analyze the facts and information presented in the application and case record and to report findings and recommendations to the Board.

Public comment is invited from interested parties. Submissions shall be addressed to the Board's Executive Secretary at the address below. The closing period for their receipt is April 29, 2013. Rebuttal comments in response to material submitted during the foregoing period may be submitted during the subsequent 15-day period to May 13, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: February 20, 2013.
Andrew McGilvray,
Executive Secretary.

[FR Doc. 2013-04420 Filed 2-25-13; 8:45 am]

BILLING CODE 3510-DS-P